DEPARTMENT OF TRANSPORTATION

Federal Motor Carrier Safety Administration

49 CFR Parts 325, 350, 355, 365, 369, 370, 372, 375, 376, 380, 381, 382, 383, 384, 385, 386, 387, 389, 390, 391, 393, 395, 396, and 397, and Appendix G to Subchapter B of Chapter III

[Docket No. FMCSA-2013-0292]

RIN 2126-AB64

General Technical, Organizational, and Conforming Amendments to the Federal Motor Carrier Safety Regulations

AGENCY: Federal Motor Carrier Safety Administration (FMCSA), DOT.

ACTION: Final rule.

SUMMARY: This final rule makes technical corrections throughout FMCSA's regulations. The Agency is making minor editorial changes to correct errors and omissions, ensure conformity with Office of the Federal Register style, and improve clarity. This rule does not make any substantive changes to the affected parts of the Federal Motor Carrier Safety Regulations (FMCSRs).

DATES: This final rule is effective September 24, 2013.

FOR FURTHER INFORMATION CONTACT: Ms. Elaine Walls, Federal Motor Carrier Safety Administration, Office of the Chief Counsel, Regulatory Affairs Division, 1200 New Jersey Avenue SE., Washington, DC 20590-0001, by telephone at (202) 366-1394 or via email at elaine.walls@dot.gov. Office hours are from 9 a.m. to 5 p.m. e.t., Monday through Friday, except Federal holidays.

If you have questions on viewing the docket, please call Ms. Barbara Hairston, Docket Operations, telephone 202-366-3024.

SUPPLEMENTARY INFORMATION:

Legal Basis for the Rulemaking

Congress delegated certain powers to regulate interstate commerce to the United States Department of Transportation (DOT or Department) in numerous pieces of legislation, most notably in section 6 of the Department of Transportation Act (DOT Act) (Pub. L. 85-670, 80 Stat. 931 (1966)). Section 55 of the DOT Act transferred to the Department the authority of the former Interstate Commerce Commission (ICC) to regulate the qualifications and maximum hours of service of employees, the safety of operations, and the equipment of motor carriers in interstate commerce. See 49 U.S.C. 104. This authority, first granted to the ICC in the Motor Carrier Act of 1935 (Pub. L. 74-255, 49 Stat. 543, Aug. 9, 1935), now appears in chapter 315 of title 49 of the U.S. Code. The regulations issued under this authority became known as the Federal Motor Carrier Safety Regulations, appearing generally at 49 CFR parts 350-399. The administrative powers to enforce chapter 315 were also transferred from the ICC to the DOT in 1966 and appear in chapter 5 of title 49 of the U.S. Code. The Secretary of the U.S. Department of Transportation (Secretary) delegated oversight of these provisions to the Federal Highway Administration (FHWA), a predecessor agency of the FMCSA. The FMCSA Administrator has been delegated authority under 49 CFR 1.87 to carry out the motor carrier functions vested in the Secretary.

Between 1984 and 1999, a number of statutes added to FHWA's authority. Various statutes authorize the enforcement of the FMCSRs, the Hazardous Materials Regulations (HMRs), and the Commercial Regulations, and provide both civil and criminal penalties for violations of these requirements. These statutes include the Motor Carrier Safety Act of 1984 (Pub. L. 98-554, 98 Stat. 2832, Oct. 30, 1984), codified at 49 U.S.C. chapter 311, subchapter III; the Commercial Motor Vehicle Safety Act of 1986 (Pub. L. 99-570, 100 Stat. 3207-170, Oct. 27, 1986), codified at 49 U.S.C. chapter 313; the Hazardous Materials Transportation Uniform Safety Act of 1990, as amended (Pub. L. 101-615, 104 Stat. 3244, Nov. 16, 1990), codified at 49 U.S.C. chapter 51; and the ICC Termination Act of 1995 (Pub. L. 104-88, 109 Stat. 803, Dec. 29, 1995), codified at 49 U.S.C. chapters 131-149.

The Motor Carrier Safety Improvement Act of 1999 (MCSIA) (Pub. L. 106-159, 113 Stat. 1748, Dec. 9, 1999) established FMCSA as a new operating administration within the DOT, effective January 1, 2000. The motor carrier safety responsibilities previously assigned to both the ICC and the FHWA are now assigned to FMCSA. Congress expanded, modified, and amended FMCSA's authority in the Uniting and Strengthening America by Providing Appropriate Tools Required to Intercept and Obstruct Terrorism (USA PATRIOT) Act of 2001 (Pub. L. 107-56, 115 Stat. 272, Oct. 26, 2001), the Safe, Accountable, Flexible, Efficient Transportation Equity Act: A Legacy for Users (SAFETEA-LU) (Pub. L. 109-59, 119 Stat. 1144, Aug. 10, 2005), the SAFETEA-LU Technical Corrections Act of 2008 (Pub. L. 110-244, 122 Stat. 1572, June 6, 2008), and the Moving Ahead for Progress in the 21st Century Act (MAP-21) (Pub. L. 112-141, 126 Stat. 405, July 6, 2012).

Most of the provisions of the FMCSRs amended by this rule are based on the statutes detailed above. The legal authority for each of those provisions was explained when the requirement was originally adopted and is summarized at the beginning of each part in title 49 of the CFR. Title 49 CFR subtitle B, chapter III, contains all of the FMCSRs.

The Administrative Procedure Act (APA) (5 U.S.C. 553) specifically provides exceptions to its notice and public comment rulemaking procedures where the Agency finds there is good cause (and incorporates the finding and a brief statement of reasons therefore in the rules issued) to dispense with them. Generally, good cause exists where the Agency determines that notice and public comment procedures are impractical, unnecessary, or contrary to the public interest (5 U.S.C. 553(b)). The amendments made in this final rule merely correct inadvertent errors and omissions, remove obsolete references, and make minor editorial changes to improve clarity and consistency. The technical amendments do not impose any new requirements, nor do they make any substantive changes to the CFR. For these reasons, the FMCSA finds good cause that notice and public comment on this final rule are unnecessary. For these same reasons, this rule will be effective on the date of publication in the Federal Register.

Background

This document makes editorial changes to correct inaccurate references and citations, improve clarity, and fix errors. The reasons for each of these minor editorial changes are set out below, in a section-by-section description of the changes. These amendments do not impose any new requirements, nor do they make substantive changes to the CFR.

Section-by-Section Analysis

This section-by-section analysis describes the technical amendment provisions in numerical order.

Part 325

Section 325.1. The second sentence of paragraph (c)(6) is revised by removing the comma between the words “asphalt” and “spreaders,” to correct a typographical error.

Section 325.13. In paragraph (d)(1), “Federal Highway Administration” is revised to read “Federal Motor Carrier Safety Administration,” which complies with the intent of the technical changes rule published in the Federal Register (FR) on October 1, 2001 (66 FR 49867). The last sentence of paragraph (d)(1) is revised by capitalizing the word “carrier” in the phrase “Federal Motor carrier Safety Administration” and removing the space between the word “Administration” and the comma. These changes are made to correct typographical errors.

Part 350

Section 350.205. In paragraph (b), the phrase “Division Administrator/” is inserted in front of “State Director.” The head of each FMCSA State office is the Division Administrator. The Agency, however, has one remaining State Director, in the Puerto Rico Division.

Section 350.341. In paragraph (h)(2), the word “affect” is changed “effect” to correct an erroneous word choice.

Part 355

Appendix A to part 355. Under the section for “State Determinations,” paragraph 2.b is revised by capitalizing the first word “do,” to be consistent with paragraphs 2.a and 2.c.

Part 365

Appendix A to Subpart E of Part 365. In Appendix A to subpart E of part 365, FMCSA corrects several cross references. These errors reflect proofreading mistakes that were part of the original publication of the appendix on March 19, 2002 (67 FR 12715). In Section I titled, “General,” paragraph (c)(6), the reference to “§ 385.103(d)” is replaced by a reference to “§ 385.103(c),” which is the paragraph that discusses requirements for a decal. In Section III titled, “Overall Determinations of the Carrier's Basic Safety Management Controls,” paragraph (b), the reference to sections “II (a)(1) through (5)” is replaced by a reference to sections “III (a)(1) through (5)” and the reference to “part III” is replaced by a reference to “part IV.” In Section IV titled, “Evaluation of Regulatory Compliance,” paragraph (k)(2), the reference to section “III (k)(1)(i)” is replaced by a reference to section “IV (k)(1)(i).” Also in Section IV, paragraph (k)(3), the reference to “paragraph III (k)(1)(vi)” is replaced by a reference to “paragraph IV (k)(1)(vi).” In Section IV, the introductory text of paragraph (l), the reference to “part II (a)(1)” is replaced by a reference to “part III (a)(1),” and the reference to “part III” is replaced by a reference to “part IV.”

In Section II, paragraph (b)(2), the word “Section” is revised by making the capital “S” a lower case “s.” This correction is made to conform to Government Printing Office style.¹

¹ Government Printing Office, “Style Manual,” 2000, chapter 4. The “Style Manual” is available at: http://www.gpo.gov/fdsys/pkg/GPO-STYLEMANUAL-2008/content-detail.html.

Part 369

Sections 369.2 and 369.3. The phrase “Producers Price Index” in notes to these sections is changed to read “Producer Price Index” to correct typographical errors.

Part 370

Section 370.9. In paragraph (b), the reference to “§ 375.1(b)(1)” is changed to “§ 375.103.” The definition for the term “household goods motor carrier” is located in § 375.103.

Part 372

Section 372.109. Paragraph (a) is amended by replacing the phrase “federation of cooperation association” with the phrase “federation of cooperative associations” in the first sentence to correct a typographical error.

Section 372.117. Paragraph (a) is amended by replacing the reference to “section (c) herein,” with a reference to “paragraph (c) of this section,” to conform to Office of the Federal Register style.²

² The Office of the Federal Register publishes the “Document Drafting Handbook,” which provides Federal Agencies with guidance and examples for complying with the OFR's format and editorial requirements for Federal Register documents. It is available at: http://www.archives.gov/federal-register/write/handbook/ddh.pdf. See page 2-45.

Section 372.211. Paragraph (e) is amended by inserting the word “or” between the phrase “by the municipality of Pittsburgh” and the phrase “by any other municipality…” to correct a typographical error.

Sections 372.227, 372.229, and 372.231. In these three sections, the word “paragraph” is added before the paragraph references in a number of places. The addition of the word “paragraph(s)” in these instances provides added clarity and conforms to Office of the Federal Register style.³

³ “Document Drafting Handbook,” page 2-45.

Sections 372.213 and 372.233. In these two sections, FMCSA adds a reference to the specific municipality affected by the sections. This is to clarify which municipalities are included within the scope of the section and to make the language of these sections consistent with other sections in part 372. Section 372.213(e) is amended by adding the phrase “of Pueblo or by any other municipality”; § 372.233(e) is amended by adding the words “of Chicago or any other municipality.”

Part 375

Section 375.105. In paragraph (b), the word “Section” that precedes each section number is removed and instead two section symbols (§§ ) are added at the beginning of the list, before the reference to § 375.205. This conforms to Government Printing Office style ⁴ and eliminates needless repetition.

⁴ “Style Manual,” 10.6.

Part 376

Section 376.11. In the last sentence of paragraph (d)(1), the phrase “the balance f documentation” is corrected to read “the balance of documentation.”

Part 380

Sections 380.502 and 380.513. In both § 380.502(b) and § 380.513(e), the words “whistle blower” are replaced by the word “whistleblower,” to correct a spelling error.

Appendix to Part 380. Section 3 titled, “Safe Operating Practices,” “Unit 3.5—Security issues,” is amended by removing the words “Research and Special Programs Administration” and adding, in their place, the words “Pipeline and Hazardous Materials Safety Administration.” In November 2004, an act of Congress abolished the Research and Special Programs Administration (RSPA) and certain of its duties were transferred to the Pipeline and Hazardous Materials Safety Administration (PHMSA). This change is required to reflect the current name of the agency with the statutory authority to regulate the transportation of hazardous materials.

Part 381

Sections 381.310 and 381.410. In § 381.310(c)(5) and § 381.410(c)(8), the words “achieve a level a safety” are replaced by the words “achieve a level of safety,” to correct typographical errors.

Part 382

Section 382.401. To conform to the structure of paragraph (b), paragraph (b)(2) is changed to a full sentence by appending to the end of the paragraph the phrase “shall be maintained for a minimum of 2 years.” In addition, two cross references, which were incorrect in the original publication of the rule (66 FR 43103, August 17, 2001), are corrected here. The reference to “§ 40.213(a)” in paragraph (c)(5)(iv) is corrected to read “§ 40.213(g),” which discusses documentation of training for breath alcohol technicians. Finally, the reference to “§ 390.31” in paragraph (d) is corrected to read “§ 390.29,” which discusses locations of records.

Section 382.403. In paragraph (e), the term “Consortia/Third party administrator” is changed to “Consortium/Third party administrator,” as it is defined in § 382.107.

Section 382.601. In paragraph (b)(11), the phrase “. . . program and or referral to management” is replaced by the phrase “. . . program and/or referral to management,” to correct a typographical error.

Part 383

Section 383.3. In paragraph (f), the words “(except in the instances specified in § 383.21)” are removed because the exceptions previously referenced under § 383.21 were removed in a September 2, 1999, rulemaking (64 FR 48110).

Section 383.5. Under the definition for “Conviction,” the closed quotation mark following the word “probated” is removed to correct a typographical error.

Section 383.51. In Table 2 to § 383.51, footnote 1 is changed to add a reference to the commercial learner's permit (CLP), so that the footnote agrees with the regulatory text in § 383.51(c)(7).

Section 383.53. In paragraph (b)(2), the reference to “§ 383.37(c)” is changed to read “§ 383.37(d).” Also, in paragraph (c), the reference to “§ 383.37(d)” is changed to read “§ 383.37(e).” When 49 CFR 383.37 was revised on May 9, 2011 (76 FR 26979), old paragraphs (c) and (d) became paragraphs (d) and (e), respectively, but the corresponding changes in § 383.53 were not made.

Sections 383.71, 383.73, and 383.153. In these three sections, FMCSA corrects the date “July 8, 2014” to read “July 8, 2015.” This compliance date, which appears in § 384.301(f), was changed on March 25, 2013 (78 FR 17882). FMCSA, however, failed to change references to the compliance date in §§ 383.71(a)(1) and (2), 383.73(a)(1) and (2), and 383.153(g) and (h).

On October 1, 2012, § 383.71(b)(1)(i) was removed because it was obsolete, and paragraph (b)(1)(ii) of that section was redesignated as paragraph (b)(1) (77 FR 59825). The Agency, however, failed to change numerous affected cross references throughout §§ 383.71 and 383.73. It is correcting that oversight in this rulemaking.

Part 384

Section 384.206. As previously described, § 383.71(b)(1)(ii) was redesignated as § 383.71(b)(1) on October 1, 2012 (77 FR 59825). Therefore, the references to “§§ 383.71(b)(1)(ii)(A)” and “383.71(b)(1)(ii),” in § 384.206(a)(1)(ii) and (a)(2)(iii), respectively, are corrected. In paragraph (a)(2)(iii), the reference to “§ 383.73(j)(4)” is corrected to read “§ 383.73(o)(4).” This reference changed when § 383.73 was revised on May 9, 2011 (76 FR 26883), but the Agency inadvertently did not change this cross reference.

Section 384.216. Paragraph (b) is amended by correcting the cross reference to “§ 383.51(a)(5)” to read “§ 383.51(a)(6).” When § 383.51(a) was revised on May 9, 2011 (76 FR 26879), this change was not made.

Sections 384.222 and 384.223. When § 383.37 was revised on May 9, 2011 (76 FR 26879), the Agency did not make the necessary changes to the cross references in §§ 384.222 and 384.223. The reference to “§ 383.37(c)” in § 384.222 is removed and replaced by a reference to “§ 383.37(d),” which discusses out-of-service orders. In § 384.223, the reference to “§ 383.37(d)” is changed to reference “§ 383.37(e),” which discusses railroad-highway grade crossings.

Section 384.225. Paragraph (a)(2)(i) is changed by replacing the reference to “§ 383.71(b)(1)(ii)” with a reference to “§ 383.71(b)(1).” Section 383.71(b)(1)(ii) was redesignated as § 383.71(b)(1) on October 1, 2012 (77 FR 59825).

Section 384.229. In paragraph (a), the last sentence is removed because the cross- referenced exception in § 383.75(a)(7) was eliminated in a March 25, 2013 final rule (78 FR 17881).

Section 384.305. In paragraph (a), the phrase “Division Administrator/” is inserted in front of the words “State Director.” As previously noted, generally, the head of each FMCSA State office is the Division Administrator. However, the Agency has one remaining State Director, in the Puerto Rico Division.

Section 384.309. Paragraph (a)(2) incorrectly references § 384.307(c). The correct reference is to § 384.307(d), which addresses final FMCSA determinations. When § 384.307 was revised on July 31, 2002 (67 FR 49763), this change was not made.

Section 384.403. Paragraph (a) references § 384.401(a)(1) or (b)(1). However, since July 5, 2007 (72 FR 36788), paragraphs (a) and (b) in § 384.401 no longer have subparagraphs. The references in § 384.403(a) are corrected to read “§ 384.401(a) or (b).”

Part 385

Sections 385.3, 385.407, and 385.421. As previously mentioned, an Act of Congress abolished RSPA and certain of its duties were transferred to PHMSA. In several sections, FMCSA changes a reference to RSPA to a reference to PHMSA to reflect the current name of the agency with the statutory authority to regulate the transportation of hazardous materials. Section 385.3 is changed by removing “RSPA means the Research and Special Programs Administration” and adding, in alphabetical order, “PHMSA means the Pipeline and Hazardous Materials Safety Administration.” Sections 385.407(c) and 385.421(a)(9) are both changed to remove terms related to the obsolete Research and Special Programs Administration and add, in their place, the term “Pipeline and Hazardous Materials Safety Administration” or the acronym “PHMSA.”

Section 385.4. In this section, FMCSA removes the name “Mr. Thomas Kelly” and adds the title “Chief, Compliance Division” in its place. This change makes clear that any questions should be addressed to the current Chief of the Compliance Division. Paragraph (b) is changed to correct a typographical error in the address.

Part 386

Sections 386.2, 386.7, and 386.8. As part of a reorganization in DOT, the Docket Management Facility was renamed Docket Operations. FMCSA corrects §§ 386.2, 386.7, and 386.8 to be consistent with the official title used by the facility. In the definition of “Dockets” in § 386.2, the run-in, italic heading is changed to read “Docket Operations.” The address in § 386.7 is changed from “Department of Transportation Docket Management Facility” to “Department of Transportation Docket Operations.” In § 386.8(c)(2), the name of the facility is changed from “Dockets” to “Docket Operations.”

Section 386.11. The Agency updates the title of the office in paragraph (a) to read “Director, Office of Carrier, Driver, and Vehicle Safety Standards (MC-PS)” to reflect current usage and makes editorial changes to paragraph (b) for consistency.

Section 386.13. Paragraph (a)(5) is changed to clarify that the information in the paragraph refers to a petition and not a reply. In addition, the cross reference is changed from “§ 386.31” to “§ 386.6(c)” because on May 18, 2005, former § 386.31 was superseded by § 386.6 (70 FR 28480).

Section 386.22. In paragraphs (d) and (e), the comma following “reject it” is removed to correct a typographical error and to be consistent with § 386.22(c).

Section 386.48. The Agency updates the title of the office to read “Director, Office of Carrier, Driver, and Vehicle Safety Standards (MC-PS)” to reflect current usage.

Section 386.51. In paragraph (a), the word “anytime” is changed to read “any time” to correct a typographical error and to be consistent with § 386.51(b).

Section 386.72. In paragraph (b)(3), the Agency adds a reference to “employee” to the definition of “imminent hazard” to reflect the wording of the statute at 49 U.S.C. 521(b)(5)(B).

Section 386.73. Paragraph (g)(8)(iii) is amended by replacing the reference to “(g)(5)” with “(g)(7),” the correct reference to the 30-day period for review of a petition. This cross reference was incorrect when the section was added April 26, 2012 (77 FR 24870).

Section 386.83. Section 386.83 contains a reference to 49 CFR part 386 Appendix A (h) that was not updated after that paragraph was re-numbered. This rule corrects that so that it properly references 49 CFR part 386 Appendix A (i).

Part 387

Sections 387.5 and 387.29. The word “means” is inserted between the term being defined and the definition for several terms defined in these sections. This change provides added clarity and readability, and conforms to other sections throughout the CFR.

Sections 387.307, 387.315, and 387.409. Each instance of the terms “state” and “federal” are capitalized in these sections, to be consistent with the Government Printing Office style.⁵ In § 387.307, paragraph (d)(1), the term “subsection (a)” after the phrase “. . . full security limits under. . .” is replaced by the phrase “paragraph (a) of this section,” to conform to Office of the Federal Register style.⁶

⁵ “Style Manual,” 2000, chapter 4.

⁶ “Document Drafting Handbook,” page 2-45.

Part 389

Section 389.25. Section 389.25 is revised to correct typographical and grammatical errors. The phrase “or example” is replaced by the phrase “For example”. Also, the word “to” is inserted between the words “. . . minutes are kept, or” and “participate in any other proceeding. . . .”

Part 390

Section 390.3. In paragraph (f)(1), the list of exceptions is amended to include § 391.15(e), Disqualification for violation of prohibition of texting while driving a commercial motor vehicle, and § 391.15(f), Disqualification for violation of a restriction on using a hand-held mobile telephone while driving a commercial motor vehicle. The first citation (§ 391.15(e)) was originally included in the September 25, 2010, texting final rule (75 FR 59118). When the paragraph was revised by the cell phone rule to add that exception in § 391.15(f) on December 2, 2011 (76 FR 75470), § 391.15(e)—the texting rule disqualification—was inadvertently omitted from the list of exceptions. Also, paragraph (f)(6) is amended to include an additional exception (§ 391.15(e)) for the texting provisions. This citation was included in the 2010 texting final rule, but inadvertently removed by the 2011 cell phone rule.

Section 390.5. In the definition of “Bus,” the phrase “and or used” is changed to “and/or used” to correct a typographical error.

Section 390.19. The section heading is changed to correspond to the entities listed in paragraph § 390.19(a)(2) required to submit Form MCS-150B to the Agency. The new heading reads “§ 390.19 Motor carrier, hazardous material safety permit applicant/holder, and intermodal equipment provider identification reports.”

Section 390.21. In paragraph (e)(2)(iv), the word “part” is inserted between the words “CFR” and “376,” to conform to Office of the Federal Register style.⁷ Also, in paragraph (g)(4)(iii), the acronyms “SCAC” and “VIN” are used, but they not defined until § 390.21(g)(4)(v)(A). For clarity, the acronyms SCAC and VIN are spelled out in § 390.21(g)(4)(iii) as follows: “Standard Carrier Alpha Code (SCAC)” and “Vehicle Identification Number (VIN)” the first time they are used, but the acronyms alone are used in paragraph (g)(4)(v)(A).

⁷ “Document Drafting Handbook,” page 2-45.

Section 390.40. In paragraph (f), the reference to “§ 396.12” is replaced with a reference to “§ 396.3(b)(3),” which is the correct citation for records of inspection, repair and maintenance. Also, paragraph (j) included a reference to § 386.72(b)(1), which is incorrect because the definition of “imminent hazard” is no longer contained in that paragraph. Thus, in paragraph (j) of § 390.40, the reference to “§ 396.72(b)(1)” is removed and replaced with a reference to “§ 396.72(b)(3).

Section 390.107. In the introductory text of § 390.107, the comma is removed between the word “* * * in” and the phrase “accordance with the minimum specifications * * *” to correct a typographical error.

Part 391

Section 391.2. In paragraphs (a), (b), and (c) of § 391.2, the references to “§ 391.15(e) and (g)” are removed and replaced with references to “§ 391.15(e) and (f),” to correct a typographical error. Section 391.2 was revised and § 391.15(f) was added on December 2, 2011 (76 FR 75487), with this incorrect cross reference. There has never been a § 391.15(g).

Section 391.15. In paragraph (c)(1)(ii), the reference to “§ 395.2(a)” is removed and replaced with a reference to “§ 395.2,” to correct a typographical error. Because it is a definitions section, § 395.2 is arranged alphabetically, rather than by paragraphs. Also, in paragraph (c)(1)(ii), the semicolon is removed following the phrase “* * * or foreign commerce” and replaced with a period, to correct a typographical error and to be consistent with other instances in this section.

Section 391.47. In paragraphs (c), (d)(1) and (d)(2), and (f), the phrase “Director of Bus and Truck Operations (MC-PSDPSD)” is changed to correctly refer to the position title and mail routing symbol, respectively, as “Director, Office of Carrier, Driver and Vehicle Safety Standards (MC-PS).”

Section 391.49. In paragraphs (g), (h), (j)(1), (j)(2), and (k), the phrase “Division Administrator/” is added before the words “State Director” in each instance the term is used. As noted previously, except for the Puerto Rico Division, the head of each FMCSA State office is the Division Administrator.

Section 391.65. In paragraphs (a) introductory text, (a)(1), (a)(2), (a)(2)(i), (a)(2)(ii), (a)(2)(iii), and the certification statement in (a)(2)(vii), the words “regularly employed” or variations of that phrase are replaced by the words “single-employer driver” or variations of that phrase. The reference in paragraph (a)(2)(iii) to the definition of a regularly employed driver in § 390.5 is no longer correct. The definition of “regularly employed driver” has been replaced by the definition of “single-employer driver” (see 63 FR 33276, June 18, 1998).

Part 393

Section 393.3. The negative implications in § 393.3—that additional equipment or accessories that reduce operation safety are prohibited—is re-phrased as an affirmative prohibition.

Section 393.11. In Footnote 12, the reference to “§ 392-22(a)” is replaced by a reference to “§ 392.22(a).” In Footnote 15(l), the reference to “Section 393.11” is replaced by a reference to “§ 393.11.” These changes correct a typographical error and conform the footnotes to Office of the Federal Register style.⁸

⁸ “Document Drafting Handbook,” page 2-44, et seq.

Section 393.49. In paragraph (a), the word “busses” is replaced with the word “buses,” to correct a typographical error.

Subpart E of Part 393. FMCSA removes the outdated authority citation for subpart E—Fuel Systems, which follows the subpart heading. The authority citation for part 393 adequately covers subpart E.

Section 393.67. In paragraphs (a)(2) and (a)(3), the reference to “paragraph (c)(7)(iii)” is replaced with a reference to “paragraph (c)(7)(ii),” which is the correct citation for diesel fuel tanks. In paragraph (c)(9), the word “systems test” is replaced with the words “system test” to correct a typographical error.

Section 393.71. In paragraph (h)(7), the words “Tow-bars of such design on in our condition as to permit . . .” are replaced with the words “Tow-bars of such design or in such condition as to permit . . .” to correct typographical errors. FMCSA removes the authority citation at the end of § 393.71 because it is outdated and because the authority citation for part 393 accurately describes the authority for the section.

Section 393.77. Paragraph “(b)(15)(i) Exception” is redesignated as “(c) Exception” to maintain alphabetical continuity with paragraph “(b) Heater,” the preceding paragraph.

Section 393.95. In paragraph (j), the words “See § 393.7(c)” are replaced with the words “See § 393.7” to correct the reference to matters or material incorporated by reference.

Section 393.102. In paragraph (b), the reference to “Sec.” in “Sec. 393.106(b)” is replaced with the section symbol (§ ), to read “§ 393.106(b).” In paragraph (c), the quotation mark (”) following the words “if the cargo is” is replaced with a colon (:) to correct a typographical error.

Section 393.118. In paragraph (d)(3)(iv)(B)(2)(i), the word “about” between the words “6 feet” and “the deck” is replaced with the word “above” to correct a typographical error. Also, paragraph (d)(5) is redesignated as paragraph (e), since the content in paragraph (d)(5) is not included within the scope of “securement of bundles transported using more than one tier.”

Section 393.120. In the italic, run-in headings of paragraphs (b), (c), and (d), the words “in an” are added after the words “. . . in a sided vehicle or” and before the words “intermodal container.” In paragraph (b)(1)(iv), the words “must be used” are removed. In the introductory text of paragraph (b)(2), the word “the” is removed after the words “longitudinal row,” and, in its place, is added the word “then.” In paragraph (d)(1)(v), the comma is removed between the words “Either blocking” and “or friction mats.” In the last sentence of paragraph (d)(3)(iv), the extraneous phrase “he forward direction.” is deleted to correct a typographical error.

Section 393.124. The paragraph that follows § 393.124(d)(5)(vi) is redesignated from paragraph “(a)” to paragraph “(e).” Currently, the paragraph is mislabeled as paragraph (a). In newly redesignated paragraph (e)(2)(ii)(B), the period at the end of the paragraph is replaced with a semicolon. In paragraph (f)(2)(i), the period at the end of the paragraph is removed and replaced with a semicolon.

Section 393.136. In paragraph (b)(2), the words “hard wood” are replaced with the word “hardwood” to correct a typographical error.

Section 393.203. In paragraph (a), the word “exist” is replaced with the word “exit” to correct a typographical error.

Part 395

Section 395.1. On August 25, 2005, the Agency modified substantially the sleeper berth regulations in § 395.1(g) (70 FR 50071). Among other things, the 2005 sleeper berth provisions referred to the 11- and 14-hour limits, which do not apply in Alaska. Inadvertently, FMCSA did not include alternative Alaska limits in that rulemaking. As a result, the current sleeper berth rules say that drivers can drive only 11 hours in a 14-hour window, while Alaska drivers can drive 15 hours in a non-consecutive 20-hour window. This rulemaking corrects that oversight by adding the alternative limits for Alaska drivers to § 395.1(g).

The title of paragraph (m) in § 395.1, “Construction materials and equipment,” is italicized to stylistically conform to the titles of the other paragraphs in that section.

Section 395.3. Paragraph (d), dealing with the once-a-week limit on restarting the 60- and 70-hour rules, is amended to include references to a weekly limit on restarting the special 70- and 80-hour rules effective in Alaska.

Section 395.8. In the note to paragraph (c), the word “nerest” is replaced by the word “nearest,” and in paragraph (f)(11) “ff duty” is replaced by “off duty” to correct typographical errors.

Part 396

Section 396.9. In paragraph (c)(1), the phrase “out-of-Service Vehicle sticker” is replaced by the phrase “Out-of-Service Vehicle sticker,” to correct a typographical error.

Section 396.11. Section 396.11 is amended to correct grammatical errors. In paragraph (a)(1)(xi), the semicolon at the end of the paragraph is replaced by a period. In paragraph (b)(1)(ix), a period is added at the end of the paragraph. In paragraph (b)(2)(ix), the semicolon at the end of the paragraph is replaced by a period. In paragraph (b)(2)(iv)(B), a period is added at the end of the paragraph.

Section 396.15. In paragraphs (b) and (c), the word “towbar” is replaced by the word “tow-bar” to correct a typographical error.

Part 397

Section 397.65. Under the definition of “Indian tribe,” the symbol (§ ) that precedes the section number of the statute is replaced by the term “section,” to conform to Government Printing Office style.⁹ The definition of “Radioactive material” is updated to reflect changes to the definition of the “radioactive material” as defined in 49 CFR 173.403. This definition was revised on January 26, 2004 (69 FR 3670).

⁹ “Style Manual,” 9.39.

Sections 397.67, 397.69, and 397.71. These three paragraphs are amended to correct certain grammatical errors. In the introductory text of § 397.67(b), the phrase “a NRHM routing designations,” is replaced by the phrase “NRHM routing designations.” In § 397.67 (d), the word “or” is added after the words “Division 1.1, 1.2”. The Agency corrects § 397.69(b) and § 397.71(b)(6), (b)(9)(i), and (b)(9)(iv) by replacing the words “a NRHM” with the words “an NRHM” wherever they appear. In addition, in § 397.71(b)(2)(ii), the word “their” following “. . . the public will be afforded the opportunity to present” is replaced by the word “its.”

Section 397.73. In paragraph (a), the reference to “Section 2B-43” is replaced by a reference to “Section 2B-62,” to reflect revisions in the updated “Manual on Uniform Traffic Control Devices.” ¹⁰ In paragraph (b), the phrase “their jurisdictions” following “. . . shall provide information identifying all NRHM routing designations which exist within” is replaced by the phrase “its jurisdiction” to correct a grammatical error.

¹⁰ The “Manual on Uniform Traffic Control Devices,” published by the Federal Highway Administration, is available from: http://mutcd.fhwa.dot.gov/pdfs/2009r1r2/pdf_index.htm.

Section 397.101. In paragraph (d), the words “shall prepared” are replaced by the words “shall prepare” to correct a typographical error. The introductory text to paragraph (g) is clarified to correctly refer the reader to 49 CFR 173.403 instead of 49 CFR 173.401(l) for the definition of a “Highway route controlled quantity” of a radioactive material. This corrects a misprint.

Section 397.201. In paragraph (c), under the definition of “Administrator,” the phrase “Federal Highway Administrator” is replaced by “Federal Motor Carrier Safety Administrator” to comply with the intent of the technical changes rule published in the Federal Register on October 1, 2001 (66 FR 49867).

Section 397.213. In paragraph (b)(4), the phrase “subdivision thereof, our Indian tribe” is replaced by the phrase “subdivision thereof or Indian tribe” to correct a typographical error.

Appendix G to Subchapter B of Chapter III

FMCSA changes Appendix G to Subchapter B of Chapter III in multiple places to conform to Office of the Federal Register style.¹¹ Under “5. Lighting Devices,” the term “Section” in the reference to “Section 393” is replaced with “part.” In subparagraph a(9), under “10. Tires,” the reference to “393.75(e)” is replaced with a reference to “§ 393.75(e).” Under “12. Windshield Glazing,” the reference to “393.60” is replaced with “§ 393.60.” In addition, under the heading, “Differences Between the Out-of-Service Criteria & FMCSA's Annual Inspection,” the Agency makes all the following changes. Under the heading “3. Exhaust System,” in both instances in which the term “Section” is used to reference “Section 393.83,” that term is replaced with the section symbol (§ ). Under “5. Lighting Devices,” the term “Section” in the reference to “Section 393” is replaced with “part.” Under “9. Frame,” the reference to “393.201” is replaced with “§ 393.201.” The reference to “393.75” under “10. Tires,” is replaced with “§ 393.75.” Under “11. Wheel and Rims,” the reference to “393.205” is replaced with “§ 393.205.” Finally, under “12. Windshield Glazing,” the reference to “393.60” is replaced with “§ 393.60.”

¹¹ “Document Drafting Handbook,” pages 2-44 and 2-45.

Rulemaking Analyses

Executive Order 12866 (Regulatory Planning and Review) and DOT Regulatory Policies and Procedures

FMCSA has determined that this action is not a significant regulatory action within the meaning of Executive Order 12866, as supplemented by Executive Order 13563 (76 FR 3821, January 18, 2011), or within the meaning of the DOT regulatory policies and procedures (44 FR 1103, February 26, 1979). Thus, the Office of Management and Budget (OMB) did not review this document. We expect the final rule will have minimal, if any, costs; therefore, a full regulatory evaluation is unnecessary.

Regulatory Flexibility Act

In compliance with the Regulatory Flexibility Act of 1980 (5 U.S.C. 601-612), FMCSA has evaluated the effects of this rule on small entities. Because the rule only makes minor editorial corrections and places no new requirements on the regulated industry, I certify that this action will not have a significant economic impact on a substantial number of small entities.

Assistance for Small Entities

In accordance with section 213(a) of the Small Business Regulatory Enforcement Fairness Act of 1996, FMCSA wants to assist small entities in understanding this rule so that they can better evaluate its effects on themselves and participate in the rulemaking initiative. If the rule would affect your small business, organization, or governmental jurisdiction and you have questions concerning its provisions or options for compliance; please consult the FMCSA point of contact, Elaine Walls, listed in the FOR FURTHER INFORMATION CONTACT section of this rule.

Small businesses may send comments on the actions of Federal employees who enforce or otherwise determine compliance with Federal regulations to the Small Business Administration's Small Business and Agriculture Regulatory Enforcement Ombudsman and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

Unfunded Mandates Reform Act

The final rule will not impose an unfunded Federal mandate, as defined by the Unfunded Mandates Reform Act of 1995 (2 U.S.C. 1532, et seq.), that will result in the expenditure by State, local and tribal governments, in the aggregate, or by the private sector, of $143.1 million (which is the value equivalent of $100,000,000 in 1995, adjusted for inflation to 2010 levels) or more in any 1 year.

E.O. 13132 (Federalism)

A rule has implications for Federalism under section 1(a) of Executive Order 13132 if it has “substantial direct effects on the States, on the relationship between national government and the States, or on the distribution of power and responsibilities among various levels of government.” FMCSA has determined that this rule will not have substantial direct effects on States, nor will it limit the policymaking discretion of States. Nothing in this document preempts or modifies any provision of State law or regulation, imposes substantial direct unreimbursed compliance costs on any State, or diminishes the power of any State to enforce its own laws. Accordingly, this rulemaking does not have Federalism implications warranting the application of E.O. 13132.

E.O. 12372 (Intergovernmental Review)

The regulations implementing E.O. 12372 regarding intergovernmental consultation on Federal programs and activities do not apply to this rule.

Indian Tribal Governments

This rule does not have tribal implications under Executive Order 13175 titled, “Consultation and Coordination With Indian Tribal Governments,” because it would not have a substantial direct effect on one or more Indian tribes, on the relationship between the Federal Government and Indian tribes, or on the distribution of power and responsibilities between the Federal Government and Indian tribes.

Paperwork Reduction Act

Under the Paperwork Reduction Act of 1995 (PRA) (44 U.S.C. 3501 et seq.), Federal agencies must obtain approval from the Office of Management and Budget (OMB) for each collection of information they conduct, sponsor, or require through regulations. FMCSA determined that no new information collection requirements are associated with this final rule.

National Environmental Policy Act and Clean Air Act

FMCSA analyzed this final rule for the purpose of ascertaining the applicability of the National Environmental Policy Act of 1969 (42 U.S.C. 4321 et seq.) and determined under our Environmental Procedures Order 5610.1, issued March 1, 2004 (69 FR 9680), that this action would not have any effect on the quality of the environment. In addition, this final rule is categorically excluded from further analysis and documentation under the Categorical Exclusion (CE) in paragraph 6(b) of Appendix 2 of FMCSA Order 5610.1. This CE addresses minor editorial corrections such as those addressed in this rulemaking; therefore preparation of an environmental assessment or environmental impact statement is not necessary.

The FMCSA also analyzed this rule under the Clean Air Act, as amended (CAA), section 176(c) (42 U.S.C. 42 U.S.C. 7506(c)), and implementing regulations promulgated by the Environmental Protection Agency. Approval of this action is exempt from the CAA's general conformity requirement since it does not affect direct or indirect emissions of criteria pollutants.

E.O. 12898 (Environmental Justice)

This technical amendment final rule is not subject to Executive Order 12898 (59 FR 7629, February 16, 1994). Executive Order 12898 establishes Federal executive policy on environmental justice. Its main provision directs Federal agencies, to make environmental justice part of their mission by identifying and addressing, as appropriate, disproportionately high and adverse human health or environmental effects of their programs, policies, and activities on minority populations and low-income populations in the United States. FMCSA determined that this rule will not have disproportionately high and adverse human health or environmental effects on minority or low-income populations because it does not change the substance of any of the FMCSRs.

E.O. 13211 (Energy Effects)

FMCSA has analyzed this rule under Executive Order 13211 titled, “Actions Concerning Regulations That Significantly Affect Energy Supply, Distribution, or Use.” The Agency has determined that it is not a “significant energy action” under that Executive Order because it is not a “significant regulatory action” under Executive Order 12866 and is not likely to have a significant adverse effect on the supply, distribution, or use of energy. Therefore, no Statement of Energy Effects is required.

E.O. 13045 (Protection of Children)

Executive Order 13045 titled, “Protection of Children From Environmental Health Risks and Safety Risks” (62 FR 19885, Apr. 23, 1997), requires agencies issuing “economically significant” rules, if the regulation also concerns an environmental health or safety risk that an agency has reason to believe may disproportionately affect children, to include an evaluation of the regulation's environmental health and safety effects on children. As discussed previously, this rule is not economically significant. Therefore, no analysis of the impacts on children is required.

E.O. 12988 (Civil Justice Reform)

This action meets applicable standards in sections 3(a) and 3(b)(2) of E.O. 12988 titled, “Civil Justice Reform,” to minimize litigation, eliminate ambiguity, and reduce burden.

E.O. 12630 (Taking of Private Property)

This rule will not effect a taking of private property or otherwise have taking implications under E.O. 12630 titled, “Governmental Actions and Interference With Constitutionally Protected Property Rights.”

National Technology Transfer and Advancement Act

The National Technology Transfer and Advancement Act (15 U.S.C. 272 note) requires Federal agencies proposing to adopt technical standards to consider whether voluntary consensus standards are available. If the Agency chooses to adopt its own standards in place of existing voluntary consensus standards, it must explain its decision in a separate statement to OMB. Because FMCSA does not intend to adopt technical standards, there is no need to submit a separate statement to OMB on this matter.

Privacy Impact Assessment

Section 522(a)(5) of the Transportation, Treasury, Independent Agencies, and General Government Appropriations Act, 2005 (Pub. L. 108- 447, Division H, Title I, 118 Stat. 2809 at 3268, Dec. 8, 2004) requires DOT and certain other Federal agencies to conduct a privacy impact assessment of each rule that will affect the privacy of individuals. Because this final rule will not affect the privacy of individuals, FMCSA did not conduct a separate privacy impact assessment.

List of Subjects

49 CFR Part 325

Motor carriers, Noise control.

49 CFR Part 350

Grant programs—transportation, Highway safety, Motor carriers, Motor vehicle safety, Reporting and recordkeeping requirements.

49 CFR Part 355

Highway safety, Intergovernmental relations, Motor carriers, Motor vehicle safety, Reporting and recordkeeping requirements.

49 CFR Part 365

Administrative practice and procedure, Brokers, Buses, Freight forwarders, Maritime carriers, Mexico, Motor carriers, Moving of household goods.

49 CFR Part 369

Reporting and recordkeeping requirements.

49 CFR Part 370

Freight forwarders, Investigations, Motor carriers.

49 CFR Part 372

Agricultural commodities, Buses, Cooperatives, Freight forwarders, Motor carriers, Moving of household goods, Seafood.

49 CFR Part 375

Advertising, Consumer protection, Freight, Highways and roads, Insurance, Motor carriers, Moving of household goods, Reporting and recordkeeping requirements.

49 CFR Part 376

Motor carriers, Reporting and recordkeeping requirements.

49 CFR Part 380

Administrative practice and procedure, Highway safety, Motor carriers, Reporting and recordkeeping requirements.

49 CFR Part 381

Motor carriers.

49 CFR Part 382

Administrative practice and procedure, Alcohol abuse, Drug abuse, Drug testing, Highway safety, Motor carriers, Penalties, Safety, Transportation.

49 CFR Part 383

Administrative practice and procedure, Alcohol abuse, Drug abuse, Highway safety and motor carriers.

49 CFR Part 384

Administrative practice and procedure, Alcohol abuse, Drug abuse, Highway safety, Motor carriers.

49 CFR Part 385

Administrative practice and procedure, Highway safety, Incorporation by reference, Mexico, Motor carriers, Motor vehicle safety, Reporting and recordkeeping requirements.

49 CFR Part 386

Administrative practice and procedure, Brokers, Freight forwarders, Hazardous materials transportation, Highway safety, Motor carriers, Motor vehicle safety, Penalties.

49 CFR Part 387

Buses, Freight, Freight forwarders, Hazardous materials transportation, Highway safety, Insurance, Intergovernmental relations, Motor carriers, Motor vehicle safety, Moving of household goods, Penalties, Reporting and recordkeeping requirements, Surety bonds.

49 CFR Part 389

Administrative practice and procedure, Highway safety, Motor carriers, Motor vehicle safety.

49 CFR Part 390

Highway safety, Intermodal transportation, Motor carriers, Motor vehicle safety, Reporting and recordkeeping requirements.

49 CFR Part 391

Alcohol abuse, Drug abuse, Drug testing, Highway safety, Motor carriers, Reporting and recordkeeping requirements, Safety, Transportation.

49 CFR Part 393

Highway safety, Motor carriers, Motor vehicle safety.

49 CFR Part 395

Highway safety, Motor carriers, Reporting and recordkeeping requirements.

49 CFR Part 396

Highway safety, Motor carriers, Motor vehicle safety, Reporting and recordkeeping requirements.

49 CFR Part 397

Administrative practice and procedure, Highway safety, Intergovernmental relations, Motor carriers, Parking, Radioactive materials, Reporting and recordkeeping requirements, Tires.

In consideration of the foregoing, FMCSA is amending 49 CFR chapter III, parts 325, 350, 355, 365, 369, 370, 372, 375, 376, 380, 381, 382, 383, 384, 385, 386, 387, 389, 390, 391, 393, 395, 396, and 397, and appendix G to subchapter B, as set forth below:

PART 325—COMPLIANCE WITH INTERSTATE MOTOR CARRIER NOISE EMISSION STANDARDS

1. The authority citation for part 325 is revised to read as follows:

Authority: 42 U.S.C. 4917; 49 U.S.C. 301; and 49 CFR 1.87.

§ 325.1 [Amended]

2. Amend § 325.1(c)(6) by removing the comma between the words “asphalt” and “spreaders”.

§ 325.13 [Amended]

3. In § 325.13, amend paragraph (d)(1) as follows:

a. Remove the words “Federal Highway Administration” and add in their place the words “Federal Motor Carrier Safety Administration”.

b. Remove the words “Federal Motor carrier Safety Administration” and add in their place the words “Federal Motor Carrier Safety Administration” in the last sentence of the paragraph,

c. Remove the extra space following the word “Administration” and before the comma in the last sentence of the paragraph.

PART 350—COMMERCIAL MOTOR CARRIER SAFETY ASSISTANCE PROGRAM

4. The authority citation for part 350 continues to read as follows:

Authority: 49 U.S.C. 13902, 31101-31104, 31108, 31136, 31140-31141, 31161, 31310-31311, 31502; and 49 CFR 1.87.

§ 350.205 [Amended]

5. Amend § 350.205(b) by removing the words “State Director” and adding the words “Division Administrator/State Director” in their place.

§ 350.341 [Amended]

6. Amend § 350.341(h)(2) by removing the word “affect” and adding in its place the word “effect”.

PART 355—COMPATIBILITY OF STATE LAWS AND REGULATIONS AFFECTING INTERSTATE MOTOR CARRIER OPERATIONS

7. The authority citation for part 355 is revised to read as follows:

Authority: 49 U.S.C. 504 and 31101 et seq.; and 49 CFR 1.87.

Appendix A to Part 355 [Amended]

8. Amend Appendix A to part 355, in paragraph 2.b under the center heading “State Determinations,” by capitalizing the first word of the paragraph.

PART 365—RULES GOVERNING APPLICATIONS FOR OPERATING AUTHORITY

9. The authority citation for part 365 is revised to read as follows:

Authority: 5 U.S.C. 553 and 559; 49 U.S.C. 13101, 13301, 13901-13906, 14708, 31138, and 31144; and 49 CFR 1.87.

Appendix A to Subpart E of Part 365 [Amended]

10. In the table below, for each section of Appendix A to subpart E of part 365 indicated in the left column, remove the words indicated in the middle column and add the words indicated in the right column in their place.

Section | Remove | Add
Section I, paragraph (c)(6) | § 385.103(d) | § 385.103(c).
Section II, paragraph (b)(2) | Section | section.
Section III, paragraph (b) | II (a)(1) through (5) | III (a)(1) through (5).
Section III, paragraph (b) | part III | part IV.
Section IV, paragraph (k)(2) | III (k)(1)(i) | IV (k)(1)(i).
Section IV, paragraph (k)(3) | III (k)(1)(vi) | IV (k)(1)(vi).
Section IV, paragraph (l), introductory text | part II (a)(1) | part III (a)(1).
Section IV, paragraph (l), introductory text | part III | part IV.

PART 369—REPORTS OF MOTOR CARRIERS

11. The authority citation for part 369 continues to read as follows:

Authority: 49 U.S.C. 14123; and 49 CFR 1.87.

§ 369.2 [Amended]

12. Amend § 369.2, NOTE A, by redesignating it as “Note to § 369.2” and by removing the words “Producers Price Index” and adding the words “Producer Price Index” in their place.

§ 369.3 [Amended]

13. Amend the NOTE following § 369.3 by redesignating it as “Note to § 369.3” and by removing the words “Producers Price Index” and adding the words “Producer Price Index” in their place.

PART 370—PRINCIPLES AND PRACTICES FOR THE INVESTIGATION AND VOLUNTARY DISPOSITION OF LOSS AND DAMAGE CLAIMS AND PROCESSING SALVAGE

14. The authority citation for part 370 continues to read as follows:

Authority: 49 U.S.C. 13301 and 14706; and 49 CFR 1.87.

§ 370.9 [Amended]

15. Amend § 370.9(b) by removing the reference to “§ 375.1(b)(1)” and adding in its place a reference to “§ 375.103”.

PART 372—EXEMPTIONS, COMMERCIAL ZONES, AND TERMINAL AREAS

16. The authority citation for part 372 continues to read as follows:

Authority: 49 U.S.C. 13504 and 13506; and 49 CFR 1.87.

§ 372.109 [Amended]

17. Amend § 372.109(a) by removing the words “federation of cooperation association” and adding in their place the words “federation of cooperative associations”.

§ 372.117 [Amended]

18. Amend § 372.117(a) by removing the reference to “section (c) herein” and adding in its place a reference to “paragraph (c) of this section”.

§ 372.211 [Amended]

19. Amend § 372.211(e) by adding the word “or” between the word “Pittsburgh” and the words “by any other municipality”.

§ 372.213 [Amended]

20. Amend § 372.213(e) by adding the words “of Pueblo or by any other municipality” following the words “by the municipality”.

§ 372.227 [Amended]

21. Amend § 372.227 as follows:

a. In paragraph (d), add the word “paragraphs” between the words “defined in” and the words “(b) and (c) of this section”.

b. In paragraph (e), add the word “paragraph” between the words “the terms of” and the words “(d) of this section”.

§ 372.229 [Amended]

22. Amend § 372.229 as follows:

a. In paragraph (d), add the word “paragraphs” between the words “areas in” and the words “(b) and (c) of this section”.

b. In paragraph (e), add the word “paragraph” between the words “the terms of” and the words “(d) of this section”.

§ 372.231 [Amended]

23. Amend § 372.231 as follows:

a. In paragraph (d), add the word “paragraphs” between the words “defined in” and the words “(b) and (c) of this section”.

b. In paragraph (e), add the word “paragraph” between the words “the terms of” and the words “(d) of this section”.

§ 372.233 [Amended]

24. Amend § 372.233(e) by adding the words “of Chicago or any other municipality” following the words “by the municipality”.

PART 375—TRANSPORTATION OF HOUSEHOLD GOODS IN INTERSTATE COMMERCE; CONSUMER PROTECTION REGULATIONS

25. The authority citation for part 375 continues to read as follows:

Authority: 49 U.S.C. 13102, 13301, 13501, 13704, 13707, 13902, 14104, 14706, 14708; subtitle B, title IV of Pub. L. 109-59; and 49 CFR 1.87.

26. In § 375.105, revise paragraph (b) to read as follows:

§ 375.105 What are the information collection requirements of this part?

* * * * *

(b) The information collection requirements are found in the following sections: §§ 375.205, 375.207, 375.209, 375.211, 375.213, 375.215, 375.217, 375.303, 375.401, 375.403, 375.405, 375.409, 375.501, 375.503, 375.505, 375.507, 375.515, 375.519, 375.521, 375.605, 375.607, 375.609, 375.803, 375.805, and 375.807.

PART 376—LEASE AND INTERCHANGE OF VEHICLES

27. The authority citation for part 376 continues to read as follows:

Authority: 49 U.S.C. 13301 and 14102; and 49 CFR 1.87.

§ 376.11 [Amended]

28. Amend § 376.11(d)(1) by removing the words “the balance f documentation” and adding in their place the words “the balance of documentation”.

PART 380—SPECIAL TRAINING REQUIREMENTS

29. The authority citation for part 380 continues to read as follows:

Authority: 49 U.S.C. 31133, 31136, 31307, and 31502; sec. 4007(a) and (b) of Pub. L. 102-240 (105 Stat. 2151-2152); and 49 CFR 1.87.

§ 380.502 [Amended]

30. Amend § 380.502(b) by removing the words “whistle blower” and adding in their place the word “whistleblower”.

§ 380.513 [Amended]

31. Amend § 380.513(e) by removing the words “whistle blower” and adding in their place the word “whistleblower”.

Appendix to Part 380 [Amended]

32. Amend the Appendix to Part 380, Section 3—Safe Operating Practices, Unit 3.5—Security issues, by removing the words “Research and Special Programs Administration” and adding, in their place, the words “Pipeline and Hazardous Materials Safety Administration”.

PART 381— WAIVERS, EXEMPTIONS, AND PILOT PROGRAMS

33. The authority citation for part 381 continues to read as follows:

Authority: 49 U.S.C. 31136(e) and 31315; and 49 CFR 1.87.

§ 381.310 [Amended]

34. Amend § 381.310(c)(5) by removing the words “achieve a level a safety” and adding in their place the words “achieve a level of safety”.

§ 381.410 [Amended]

35. Amend § 381.410(c)(8) by removing the words “achieve a level a safety” and adding in their place the words “achieve a level of safety”.

PART 382—CONTROLLED SUBSTANCES AND ALCOHOL USE AND TESTING

36. The authority citation for part 382 continues to read as follows:

Authority: 49 U.S.C. 31133, 31136, 31301 et seq., 31502; sec. 32934 of Pub. L. 112-141, 126 Stat. 405, 830; and 49 CFR 1.87.

§ 382.401 [Amended]

37. In the table below, for each paragraph of § 382.401 indicated in the left column, remove the words indicated in the middle column and add the words indicated in the right column in their place.

Paragraph | Remove | Add
(b)(2) | (except calibration of evidential breath testing devices) | (except calibration of evidential breath testing devices) shall be maintained for a minimum of 2 years.
(c)(5)(iv) | § 40.213(a) | § 40.213(g)”.
(d) | § 390.31 | § 390.29.

§ 382.403 [Amended]

38. Amend § 382.403(e) by removing the words “Consortia/Third party administrator” and adding in their place the words “Consortium/Third party administrator”.

§ 382.601 [Amended]

39. Amend § 382.601(b)(11) by removing the words “and or” between the words “program” and “referral,” and adding in their place the words “and/or”.

PART 383—COMMERCIAL DRIVER'S LICENSE STANDARDS; REQUIREMENTS AND PENALTIES

40. The authority citation for part 383 continues to read as follows:

Authority: 49 U.S.C. 521, 31136, 31301 et seq., and 31502; secs. 214 and 215 of Pub. L. 106-159, 113 Stat. 1748, 1766, 1767; sec. 1012(b) of Pub. L. 107-56, 115 Stat. 272, 297, sec. 4140 of Pub. L. 109-59, 119 Stat. 1144, 1746; and 49 CFR 1.87.

41. Amend § 383.3 by revising paragraph (f)(3)(i)(A) to read as follows:

§ 383.3 Applicability.

* * * * *

(f) * * *

(3) * * *

(i) * * *

(A) Has not had more than one license;

* * * * *

§ 383.5 [Amended]

42. Amend § 383.5 by removing the quotation mark following the word “probated” in the definition of “Conviction.”

§ 383.51 [Amended]

43. In Table 2 to § 383.51, amend footnote 1 by removing the words “valid CDL” and adding the words “valid CLP or CDL” in their place.

§ 383.53 [Amended]

44. In the table below, for each paragraph of § 383.53 indicated in the left column, remove the reference indicated in the middle column and add the reference indicated in the right column in its place.

Paragraph | Remove | Add
(b)(2) | § 383.37(c) | § 383.37(d).
(c) | § 383.37(d) | § 383.37(e).

§ 383.71 [Amended]

45. In the table below, for each paragraph of § 383.71 indicated in the left column, remove the words indicated in the middle column, wherever they appear, and add the words indicated in the right column in their place.

Paragraph | Remove | Add
(a)(1) introductory text | July 8, 2014 | July 8, 2015.
(a)(2) introductory text | July 8, 2014 | July 8, 2015.
(b)(1) introductory text | paragraph (b)(1)(ii)(A), (B), (C), or (D) | paragraph (b)(1)(i), (ii), (iii), or (iv).
(g) | § 383.71(b)(1)(ii) | § 383.71(b)(1).
(h) | § 383.71(b)(1)(ii)(A) | § 383.71(b)(1)(i).

§ 383.73 [Amended]

46. In the table below, for each paragraph of § 383.73 indicated in the left column, remove the words indicated in the middle column, wherever they appear, and add the words indicated in the right column in their place.

Paragraph | Remove | Add
(a)(1) | July 8, 2014 | July 8, 2015.
(a)(2) introductory text | July 8, 2014 | July 8, 2015.
(a)(2)(vii) | § 383.71(b)(1)(ii)(A) | § 383.71(b)(1)(i).
(b)(3)(v) | § 383.71(b)(1)(ii)(A) | § 383.71(b)(1)(i).
(b)(5) | § 383.71(b)(1)(ii)(A) | § 383.71(b)(1)(i).
(c)(8) | § 383.71(b)(1)(ii)(A) | § 383.71(b)(1)(i).
(d)(8) | § 383.71(b)(1)(ii)(A) | § 383.71(b)(1)(i).
(e)(6) | § 383.71(b)(1)(ii)(A) | § 383.71(b)(1)(i).
(o)(1)(i) | § 383.71(b)(1)(ii) | § 383.71(b)(1).
(o)(4)(ii) | § 383.71(b)(1)(ii) | § 383.71(b)(1).
(o)(4)(ii) | § 383.71(b)(1)(ii)(A) | § 383.71(b)(1)(i).

§ 383.153 [Amended]

47. Amend § 383.153(g) and (h) by removing the words “July 8, 2014” and adding in their place the words “July 8, 2015” wherever they appear.

PART 384—STATE COMPLIANCE WITH COMMERCIAL DRIVER'S LICENSE PROGRAM

48. The authority citation for part 384 continues to read as follows:

Authority: 49 U.S.C. 31136, 31301, et seq., and 31502; secs. 103 and 215 of Pub. L. 106-59, 113 Stat. 1753, 1767; and 49 CFR 1.87.

§ 384.206 [Amended]

49. In the table below, for each paragraph of § 383.206 indicated in the left column, remove the reference indicated in the middle column and add the reference indicated in the right column in its place.

Paragraph | Remove | Add
(a)(1)(ii) | § 383.71(b)(1)(ii)(A) | § 383.71(b)(1)(i).
(a)(2)(iii) | § 383.71(b)(1)(ii) | § 383.71(b)(1).
(a)(2)(iii) | § 383.73(j)(4) | § 383.73(o)(4).

§ 384.216 [Amended]

50. Amend § 384.216(b) by removing the reference to “§ 383.51(a)(5)” and adding in its place a reference to “§ 383.51(a)(6)”.

§ 384.222 [Amended]

51. Amend § 384.222 by removing the reference to “§ 383.37(c)” and adding in its place a reference to “§ 383.37(d)”.

§ 384.223 [Amended]

52. Amend § 384.223 by removing the reference to “§ 383.37(d)” and adding in its place a reference to “§ 383.37(e)”.

§ 384.225 [Amended]

53. Amend § 384.225(a)(2)(i) by removing the reference to “§ 383.71(b)(1)(ii)” and adding in its place a reference to “§ 383.71(b)(1)”.

54. Amend § 384.229 by revising paragraph (a) to read as follows:

§ 384.229 Skills test examiner auditing and monitoring.

* * * * *

(a) At least once every 2 years, conduct unannounced, on-site inspections of third party testers' and examiners' records, including comparison of the CDL skills test results of applicants who are issued CDLs with the CDL scoring sheets that are maintained in the third party testers' files;

* * * * *

§ 384.305 [Amended]

55. Amend § 384.305(a) by adding the words “Division Administrator/” before the words “State Director”.

§ 384.309 [Amended]

56. Amend § 384.309(a)(2) by removing the reference to “§ 384.307(c)” and adding in its place a reference to “§ 384.307(d)”.

§ 384.403 [Amended]

57. Amend § 384.403(a) by removing the reference to “§ 384.401(a)(1) or (b)(1)” and adding in its place a reference to “§ 384.401(a) or (b)”.

PART 385—SAFETY FITNESS PROCEDURES

58. The authority citation for part 385 continues to read as follows:

Authority: 49 U.S.C. 113, 504, 521(b), 5105(e), 5109, 13901-13905, 31133, 31135, 31136, 31137(a), 31144, 31148, and 31502; Sec. 113(a), Pub. L. 103-311; Sec. 408, Pub. L. 104-88; Sec. 350 of Pub. L. 107-87; and 49 CFR 1.87.

59. Amend § 385.3 by removing the definition of “RSPA” and adding in alphabetical order the definition of “PHMSA” to read as follows:

§ 385.3 Definitions and acronyms.

* * * * *

PHMSA means Pipeline and Hazardous Materials Safety Administration

60. Amend § 385.4 as follows:

a. In paragraph (a), remove the reference to “Mr. Thomas Kelly” and add in its place the words “Chief, Compliance Division.”

b. Revise paragraph (b) introductory text.

The revision reads as follows:

§ 385.4 Matter incorporated by reference.

* * * * *

(b) Commercial Vehicle Safety Alliance, 6303 Ivy Lane, Suite 310, Greenbelt, Maryland 20770-6319. Phone number (301) 830-6143.

* * * * *

61. Amend § 385.407 by revising paragraph (c) to read as follows:

§ 385.407 What conditions must a motor carrier satisfy for FMCSA to issue a safety permit?

* * * * *

(c) Registration with the Pipeline and Hazardous Materials Safety Administration (PHMSA). The motor carrier must be registered with the PHMSA in accordance with part 107, subpart G of this title.

§ 385.421 [Amended]

62. Amend § 385.421(a)(9) by removing the words “Research and Special Programs Administration” and adding, in their place, the words “Pipeline and Hazardous Materials Safety Administration”.

PART 386—RULES OF PRACTICE FOR MOTOR CARRIER, INTERMODAL EQUIPMENT PROVIDER, BROKER, FREIGHT FORWARDER, AND HAZARDOUS MATERIALS PROCEEDINGS

63. The authority citation for part 386 continues to read as follows:

Authority: 49 U.S.C. 113, chapters 5, 51, 59, 131-141, 145-149, 311, 313, and 315; Sec. 204, Pub. L. 104-88, 109 Stat. 803, 941 (49 U.S.C. 701 note); Sec. 217, Pub. L. 105-159, 113 Stat. 1748, 1767; Sec. 206, Pub. L. 106-159, 113 Stat. 1763; subtitle B, title IV of Pub. L. 109-59; and 49 CFR 1.81 and 1.87.

§ 386.2 [Amended]

64. Amend § 386.2, the definition for “Dockets,” by removing the run-in heading “Dockets” and adding in its place the heading “Docket Operations”.

§ 386.7 [Amended]

65. Amend § 386.7 by removing the words “Management Facility” and adding in their place the word “Operations”.

§ 386.8 [Amended]

66. Amend § 386.8(c)(2) by removing the word “Dockets” and adding in its place the words “Docket Operations”.

§ 386.11 [Amended]

67. In the table below, for each paragraph of § 386.11 indicated in the left column, remove the words indicated in the middle column and add the words indicated in the right column in their place, wherever they appear.

Paragraph | Remove | Add
(a) introductory text | Director, Office of Truck and Bus Standards and Operations | Director, Office of Carrier, Driver, and Vehicle Safety Standards (MC-PS).
(b) introductory text | notice of violation | Notice of Violation.
(b)(3) | notice of violation | Notice of Violation.

68. Amend § 386.13 by revising paragraph (a)(5) to read as follows:

§ 386.13 Petitions to review and request for hearing: Driver qualification proceedings.

(a) * * *

(5) Certification that the petition has been filed in accordance with § 386.6(c); and

* * * * *

§ 386.22 [Amended]

69. Amend § 386.22(d) and (e) by removing the comma following the words “reject it” in each paragraph.

§ 386.48 [Amended]

70. Amend § 386.48 by removing the words “Director, Office of Truck and Bus Standards and Operations” and adding in their place the words “Director, Office of Carrier, Driver, and Vehicle Safety Standards (MC-PS)”.

§ 386.51 [Amended]

71. Amend § 386.51(a) by removing the word “anytime” and adding in its place the words “any time”.

§ 386.72 [Amended]

72. Amend § 386.72(b)(3) by adding the word “employee,” after the word “equipment,”.

§ 386.73 [Amended]

73. Amend § 386.73(g)(8)(iii) by removing the reference to “paragraph (g)(5)” and adding in its place a reference to “paragraph (g)(7)”.

74. Amend § 386.83 by revising paragraph (c) to read as follows:

§ 386.83 Sanction for failure to pay civil penalties or abide by payment plan; operation in interstate commerce prohibited.

* * * * *

(c) A CMV owner or operator, or intermodal equipment provider that continues to operate in interstate commerce in violation of this section may be subject to additional sanctions under paragraph IV of (i) appendix A to part 386.

* * * * *

PART 387—MINIMUM LEVELS OF FINANCIAL RESPONSIBILITY FOR MOTOR CARRIERS

75. The authority citation for part 387 continues to read as follows:

Authority: 49 U.S.C. 13101, 13301, 13906, 14701, 31138, 31139, and 31144; and 49 CFR 1.87.

§ 387.5 [Amended]

76. Amend § 387.5 as follows:

a. Remove the 1 em dash and add the word “means” after the italic heading of the term being defined and before the body of the definition for each of the following definitions: “In bulk”, “In bulk (Division 1.1, 1.2, and 1.3 explosives)”, “In bulk (Division 2.3, Hazard Zone A or Division 6.1, Packing Group I, Hazard Zone A materials)”, and “Insured and principal”.

b. Add the word “means” after the italic heading of the term being defined and before the body of the definition for each of the following definitions: “Cancellation of insurance”, “Endorsement”, “Environmental restoration”, “Evidence of security”, “Financial responsibility”, “Insurance premium”, and “Public liability”.

§ 387.29 [Amended]

77. Amend § 387.29 by adding the word “means” after the italic heading of the term being defined and before the body of the definition for each of the following definitions: “Endorsement”, “Financial responsibility”, “Insured and principal”, “Insurance premium”, “Public liability”, and “Seating capacity”.

§ 387.307 [Amended]

78. Amend § 387.307 as follows:

a. In paragraph (c)(8), remove the words “state” and “federal” and add in their place the words “State” and “Federal” respectively.

b. In paragraph (d)(1), remove the reference to “subsection (a)” and add in its place a reference to “paragraph (a) of this section”.

§ 387.315 [Amended]

79. Amend § 387.315 (a) through (c) by removing the word “state” wherever it appears and adding in its place the word “State”.

§ 387.409 [Amended]

80. Amend § 387.409(a) through (c), by removing the word “state” wherever it appears and adding in its place the word “State”.

PART 389—RULEMAKING PROCEDURES—FEDERAL MOTOR CARRIER SAFETY REGULATIONS

81. The authority citation for part 389 continues to read as follow:

Authority: 49 U.S.C. 113, 501 et seq., subchapters I and III of chapter 311, chapter 313, and 31502; 42 U.S.C. 4917; and 49 CFR 1.87.

82. Revise § 389.25 to read as follows:

§ 389.25 Additional rulemaking proceedings.

The Administrator may initiate any further rulemaking proceedings that he/she finds necessary or desirable. For example, interested persons may be invited to make oral arguments, to participate in conferences between the Administrator or his/her representative at which minutes of the conference are kept, to appear at informal hearings presided over by officials designated by the Administrator at which a transcript or minutes are kept, or to participate in any other proceeding to assure informed administrative action and to protect the public interest.

PART 390—FEDERAL MOTOR CARRIER SAFETY REGULATIONS; GENERAL

83. The authority citation for part 390 continues to read as follows:

Authority: 49 U.S.C. 504, 508, 31132, 31133, 31136, 31144, 31151, 31502; sec. 114, Pub. L. 103-311, 108 Stat. 1673, 1677-1678; sec. 212, 217, 229, Pub. L. 106-159, 113 Stat. 1748, 1766, 1767; sec. 229, Pub. L. 106-159 (as transferred by sec. 4114 and amended by secs. 4130-4132, Pub. L. 109-59, 119 Stat. 1144, 1726, 1743-1744); sec. 4136, Pub. L. 109-59, 119 Stat. 114, 1745; sections 32101(d) and 32934, Pub. L. 112-141, 126 Stat. 405, 778, 830; and 49 CFR 1.87.

§ 390.3 [Amended]

84. In the table below, for each paragraph of § 390.3 indicated in the left column, remove the reference indicated in the middle column and add the reference indicated in the right column in its place.

Paragraph | Remove | Add
(f)(1) | §§ 391.15(f) | §§ 391.15(e) and (f)
(f)(6) | § 391.15(f) | §§ 391.15(e) and (f).

§ 390.5 [Amended]

85. Amend the definition of “Bus” by changing the phrase “and or” to “and/or”.

86. Amend § 390.19 by revising the section heading to read as follows:

§ 390.19 Motor carrier, hazardous material safety permit applicant/holder; and intermodal equipment provider identification reports.

* * * * *

§ 390.21 [Amended]

87. In the table below, for each paragraph of § 390.21 indicated in the left column, remove the words indicated in the middle column and add the words indicated in the right column in their place, wherever they appear.

Paragraph | Remove | Add
(e)(2)(iv) | 49 CFR 376 | 49 CFR part 376.
(g)(4)(iii) | VIN | Vehicle Identification Number (VIN).
(g)(4)(iii) | SCAC code | Standard Carrier Alpha Code (SCAC).
(g)(4)(v)(A)(i) | Standard Carrier Alpha Code (SCAC) | SCAC.
(g)(4)(v)(A)(iii) | Vehicle Identification Number (VIN) | VIN.

§ 390.40 [Amended]

88. In the table below, for each paragraph of § 390.40 indicated in the left column, remove the reference indicated in the middle column and add the reference indicated in the right column in its place.

Paragraph | Remove | Add
(f) | § 396.12 | § 396.3(b)(3).
(j) | § 396.72(b)(1) | § 396.72(b)(3).

§ 390.107 [Amended]

89. Amend the introductory text of § 390.107 by removing the comma after the word “in”.

PART 391—QUALIFICATIONS OF DRIVERS AND LONGER COMBINATION VEHICLE (LCV) DRIVER INSTRUCTORS

90. The authority citation for part 391 continues to read as follows:

Authority: 49 U.S.C. 504, 508, 31133, 31136, and 31502; sec. 4007(b) of Pub. L. 102-240, 105 Stat. 1914, 2152; sec. 114 of Pub. L. 103-311, 108 Stat. 1673, 1677; sec. 215 of Pub. L. 106-159, 113 Stat. 1748, 1767; sec. 32934 of Pub. L. 112-141, 126 Stat. 405, 830; and 49 CFR 1.87.

§ 391.2 [Amended]

91. In the table below, for each paragraph of § 391.2 indicated in the left column, remove the reference indicated in the middle column and add the reference indicated in the right column in its place.

Paragraph | Remove | Add
(a) introductory text | § 391.15(e) and (g) | § 391.15(e) and (f)
(b) | § 391.15(e) and (g) | § 391.15(e) and (f)
(c) | § 391.15(e) and (g) | § 391.15(e) and (f)

§ 391.15 [Amended]

92. Amend § 391.15 as follows:

a. In paragraph (c)(1)(i), remove the reference to “§ 395.2(a) of this subchapter” and add in its place a reference to “§ 395.2 of this part”.

b. In paragraph (c)(1)(ii), remove the semicolon and add in its place a period.

§ 391.47 [Amended]

93. In the table below, for each paragraph of § 391.47 indicated in the left column, remove the words indicated in the middle column and add the words indicated in the right column in their place, wherever they appear.

Paragraph | Remove | Add
(c) | Director, Office of Bus and Truck Standards and Operations (MC-PSDPSD) | Director, Office of Carrier, Driver and Vehicle Safety Standards (MC-PS).
(d)(1) | Director, Office of Bus and Truck Standards and Operations (MC-PSDPSD) | Director, Office of Carrier, Driver and Vehicle Safety Standards (MC-PS).
(d)(2) | Director, Office of Bus and Truck Standards and Operations (MC-PSDPSD) | Director, Office of Carrier, Driver and Vehicle Safety Standards (MC-PS).
(f) | Director, Office of Bus and Truck Standards and Operations (MC-PSDPSD) | Director, Office of Carrier, Driver and Vehicle Safety Standards (MC-PS).

§ 391.49 [Amended]

94. In the table below, for each paragraph of § 391.49 indicated in the left column, remove the words indicated in the middle column and add the words indicated in the right column in their place, wherever they appear.

Paragraph | Remove | Add
(g) | State Director | Division Administrator/State Director.
(h) | State Director | Division Administrator/State Director.
(j)(1) | State Director | Division Administrator/State Director.
(j)(2) | State Director | Division Administrator/State Director.
(k) | State Director | Division Administrator/State Director.

95. Amend § 391.65 by revising paragraphs (a) introductory text, (a)(1), (a)(2) introductory text, (a)(2)(i), (a)(2)(iii), and (a)(2)(vii) to read as follows:

§ 391.65 Drivers furnished by other motor carriers.

(a) A motor carrier may employ a driver who is not a single-employer driver, as defined in § 390.5, of that motor carrier without complying with the generally applicable driver qualification file requirements in this part, if—

(1) The driver is a single-employer driver for another motor carrier; and

(2) That other motor carrier certifies that the driver is fully qualified to drive a commercial motor vehicle in a written statement which—

(i) Is signed and dated by an officer or authorized employee of the motor carrier that employs the single-employer driver;

* * * * *

(iii) Certifies that the driver has been employed as a single-employer driver.

* * * * *

(vii) Is substantially in accordance with the following form:

__________(Name of driver)

__________(SS No.)

__________(Signature of driver)

I certify that the above named driver, as defined in § 390.5, is a single-employer driver driving a commercial motor vehicle operated by the below named carrier and is fully qualified under part 391, Federal Motor Carrier Safety Regulations. His/her current medical examiner's certificate expires on ___(Date).

This certificate expires:

(Date not later than expiration date of medical certificate)

Issued on___(date)

Issued by_____

(Name of carrier)

(Address)

(Signature)

(Title)

* * * * *

PART 393—PARTS AND ACCESSORIES NECESSARY FOR SAFE OPERATION

96. The authority citation for part 393 continues to read as follows:

Authority: 49 U.S.C. 31136, 31151, and 31502; sec. 1041(b) of Pub. L. 102-240, 105 Stat. 1914, 1993 (1991); and 49 CFR 1.87.

97. Revise § 393.3 to read as follows:

§ 393.3 Additional equipment and accessories.

The use of additional equipment or accessories in a manner that decreases the safety of operation of a commercial motor vehicle in interstate commerce is prohibited. Nothing contained in this subchapter shall be construed to prohibit the use of additional equipment and accessories, not inconsistent with or prohibited by this subchapter, provided such equipment and accessories do not decrease the safety of operation of the motor vehicles on which they are used.

§ 393.11 [Amended]

98. Amend Table 1 of § 393.11 as follows:

a. In Footnote—12, remove the reference to “§ 392-22(a)” and add, in its place, a reference to “§ 392.22(a)”.

b. In Footnote—15(1), remove the reference to “Section 393.11” and add in its place a reference to “§ 393.11”.

§ 393.49 [Amended]

99. Amend § 393.49(a) by removing the word “busses” and adding in its place the word “buses”.

Subpart E—Fuel Systems [Amended]

100. Remove the authority citation for subpart E of part 393.

§ 393.67 [Amended]

101. Amend § 393.67 as follows:

a. In paragraphs (a)(2) and (3), remove the reference to paragraph “(c)(7)(iii)” and add in its place a reference to paragraph “(c)(7)(ii)”.

b. In paragraph (c)(9), remove the word “systems” and add in its place the word “system”.

§ 393.71 [Amended]

102. Amend § 393.71(h)(7) as follows:

a. Remove the words “Tow-bars of such design on in our condition” and add in their place the words “Tow-bars of such design or in such condition”.

b. Remove the authority citation at the end of the section.

§ 393.77 [Amended]

103. Amend § 393.77 by redesignating paragraph (b)(15)(i) as paragraph (c).

§ 393.95 [Amended]

104. Amend § 393.95(j) by removing the words “See § 393.7(c)” and adding in their place the words “See § 393.7”.

§ 393.102 [Amended]

105. Amend § 393.102 as follows:

a. In paragraph (b), remove the reference to “Sec. 393.106(b)” and add in its place a reference to “§ 393.106(b)”.

b. In paragraph (c), remove the quotation mark following the words “if the cargo is” and add in its place a colon.

§ 393.118 [Amended]

106. Amend § 393.118 as follows:

a. In paragraph (d)(3)(iv)(B)(2)(i), remove the word “about” between the words “6 feet” and “the deck”, and add, in its place, the word “above”.

b. Redesignate paragraph (d)(5) as paragraph (e).

§ 393.120 [Amended]

107. Amend § 393.120 as follows:

a. In the subject headings for paragraphs (b), (c), and (d), add the words “in an” after the words “sided vehicle or” and before the words “intermodal container”.

b. In paragraph (b)(1)(iv), remove the words “must be used”.

c. In the introductory text of paragraph (b)(2), remove the word “the” after the words “longitudinal row,” and add in its place the word “then”.

d. In paragraph (d)(1)(v), remove the comma between the words “Either blocking” and the words “or friction mats”.

e. In the last sentence of paragraph (d)(3)(iv), remove the phrase “he forward direction.”.

§ 393.124 [Amended]

108. Amend § 393.124 as follows:

a. Redesignate the paragraph that follows § 393.124(d)(5)(vi), which is currently designated as paragraph (a), as paragraph (e).

b. In newly redesignated paragraph (e)(2)(ii)(B), remove the period at the end of the paragraph and add in its place a semicolon.

c. In paragraph (f)(2)(i), remove the period at the end of the paragraph and add in its place a semicolon.

§ 393.136 [Amended]

109. Amend § 393.136(b)(2), by removing the words “hard wood” and adding in their place the word “hardwood”.

§ 393.203 [Amended]

110. Amend § 393.203(a) by removing the word “exist” and adding in its place the word “exit”.

PART 395—HOURS OF SERVICE OF DRIVERS

111. The authority citation for part 395 continues to read as follows:

Authority: 49 U.S.C. 504, 31133, 31136, 31137, and 31502; sec. 113, Pub. L. 103-311, 108 Stat. 1673, 1676; sec. 229, Pub. L. 106-159 (as transferred by sec. 4115 and amended by secs. 4130-4132, Pub. L. 109-59, 119 Stat. 1144, 1726, 1743, 1744); sec. 4133, Pub. L. 109-59, 119 Stat. 1144, 1744; sec. 108, Pub. L. 110-432, 122 Stat. 4860-4866; sec. 32934, Pub. L. 112-141, 126 Stat. 405, 830; and 49 CFR 1.87.

112. Amend § 395.1 as follows:

a. Revise paragraphs (g)(1)(i)(B) and (C) and (g)(1)(ii)(C).

b. Italicize the paragraph (m) subject heading Construction materials and equipment.

The revisions read as follows:

§ 395.1 Scope of rules in this part.

* * * * *

(g) * * *

(1) * * *

(i) * * *

(B) May not drive more than the driving limit specified in § 395.3(a)(3)(i), or, in the case of drivers in Alaska, the driving limit specified in § 395.1(h)(1)(i)-(ii), following one of the 10-hour off-duty periods specified in paragraph (g)(1)(i)(A)(1) through (4) of this section. However, driving is permitted only if 8 hours or fewer have passed since the end of the driver's last off-duty break or sleeper-berth period of at least 30 minutes; and

(C) May not drive for more than the period specified in § 395.3(a)(2), or in the case of drivers in Alaska, the period specified in § 395.1(h)(1)(ii), after coming on duty following one of the 10-hour off-duty periods specified in paragraph (g)(1)(i)(A)(1)-(4) of this section; and

* * * * *

(ii) * * *

(C) Calculation of the 14-hour period in § 395.3(a)(2) includes all time—or, for calculation of the 20-hour period in § 395.1(h)(1)(ii) for drivers in Alaska, all on-duty time—except any sleeper-berth period of at least 8 but less than 10 consecutive hours and up to 2 hours riding in the passenger seat of a property-carrying vehicle moving on the highway immediately before or after a period of at least 8 but less than 10 consecutive hours in the sleeper berth; compliance must be recalculated from the end of the first of the two periods used to comply with the requirements of paragraph (g)(1)(ii)(A) of this section.

* * * * *

113. Amend § 395.3 by revising paragraph (d) to read as follows:

§ 395.3 Maximum driving time for property-carrying vehicles.

* * * * *

(d) A driver may not take an off-duty period allowed by paragraph (c) of this section to restart the calculation of 60 hours in 7 consecutive days or 70 hours in 8 consecutive days—or, in the case of drivers in Alaska, 70 hours in 7 consecutive days or 80 hours in 8 consecutive days—until 168 or more consecutive hours have passed since the beginning of the last such off-duty period. When a driver takes more than one off-duty period of 34 or more consecutive hours within a period of 168 consecutive hours, he or she must indicate in the Remarks section of the record of duty status which such off-duty period is being used to restart the calculation of 60 hours in 7 consecutive days or 70 hours in 8 consecutive days—or, in the case of drivers in Alaska, 70 hours in 7 consecutive days or 80 hours in 8 consecutive days.

§ 395.8 [Amended]

114. Amend § 395.8 as follows:

a. In the note to paragraph (c), remove the word “nerest” and add in its place the word “nearest”.

b. In paragraph (f)(11), remove the words “ff duty” and add in their place the words “off duty”.

PART 396—INSPECTION, REPAIR, AND MAINTENANCE

115. The authority citation for part 396 continues to read as follows:

Authority: 49 U.S.C. 504, 31133, 31136, 31151, and 31502; sec. 32934, Pub. L. 112-141, 126 Stat. 405, 830; and 49 CFR 1.87.

§ 396.9 [Amended]

116. Amend § 396.9(c)(1) by removing the term “ `out-of-Service Vehicle' sticker” and adding in its place the term “ `Out-of-Service Vehicle' sticker”.

§ 396.11 [Amended]

117. Amend § 396.11 as follows:

a. In paragraph (a)(1)(xi), remove the semicolon at the end of the paragraph and add in its place a period.

b. In paragraph (b)(1)(ix), remove the semicolon at the end of the paragraph and add in its place a period.

c. In paragraph (b)(2)(ix), remove the semicolon at the end of the paragraph and add in its place a period.

d. In paragraph (b)(2)(iv)(B), add a period at the end of the paragraph.

§ 396.15 [Amended]

118. Amend § 396.15 as follows:

a. In paragraph (b)(1) remove the word “towbar” and add in its place the word “tow-bar”.

b. In paragraph (c), remove the word “towbars” and add in its place the word “tow-bars”.

PART 397—TRANSPORTATION OF HAZARDOUS MATERIALS; DRIVING AND PARKING RULES

119. The authority citation for part 397 continues to read as follows:

Authority: 49 U.S.C. 322; and 49 CFR 1.87. Subpart A also issued under 49 U.S.C. 5103, 31136, 31502, and 49 CFR 1.97. Subparts C, D, and E also issued under 49 U.S.C. 5112, 5125.

120. Amend § 397.65 by revising the definitions for “Indian tribe” and “radioactive material” to read as follows:

§ 397.65 Definitions.

* * * * *

Indian tribe. Has the same meaning as contained in section 4 of the Indian Self-Determination and Education Act, 25 U.S.C. 450b.

* * * * *

Radioactive material. As defined in 49 CFR 173.403, radioactive material means any material containing radionuclides where both the activity concentration and the total activity in the consignment exceed the values of the table in 49 CFR 173.436 or values derived according to the instructions in 49 CFR 173.433.

* * * * *

§ 397.67 [Amended]

121. Amend § 397.67 as follows:

a. In paragraph (b) introductory text, remove the word “a” before words “NRHM routing designations”.

b. In paragraph (d), add the word “or” after the words “Divisions 1.1, 1.2,”.

§ 397.69 [Amended]

122. Amend § 397.69(b) by removing the words “a NRHM” and adding in their place the words “an NRHM”.

§ 397.71 [Amended]

123. In the table below, for each paragraph of § 397.71 indicated in the left column, remove the words indicated in the middle column and add the words indicated in the right column in their place.

Paragraph | Remove | Add
(b)(2)(ii) | their | its
(b)(6) | a NRHM | an NRHM
(b)(9)(i) | a NRHM | an NRHM
(b)(9)(iv) | a NRHM | an NRHM

§ 397.73 [Amended]

124. Amend § 397.73 as follows:

a. In paragraph (a), remove the reference to “Section 2B-43” and add in its place a reference to “Section 2B-62”.

b. In paragraph (b), remove the words “their jurisdictions” and add in their place the words “its jurisdiction”.

125. Amend § 397.101 as follows:

a. In paragraph (d), remove the words “shall prepared” and add in their place the words “shall prepare”; and

b. Revise paragraph (g) introductory text.

The revision reads as follows:

§ 397.101 Requirements for motor carriers and drivers.

* * * * *

(g) Except for packages shipped in compliance with the physical security requirements of the U.S. Nuclear Regulatory Commission in 10 CFR part 73, each carrier that accepts for transportation a highway route controlled quantity of Class 7 (radioactive) material (see the definition of Highway route controlled quantity in 49 CFR 173.403), must file, within 90 days following the acceptance of the package, the following information concerning the transportation of each such package with the Federal Motor Carrier Safety Administration, Office of Enforcement and Compliance (MC-EC), 1200 New Jersey Ave. SE., Washington, DC 20590-0001:

* * * * *

§ 397.201 [Amended]

126. Amend the definition of “Administrator” in § 397.201(c) by removing the words “Federal Highway Administrator” and adding in their place the words “Federal Motor Carrier Safety Administrator”.

§ 397.213 [Amended]

127. Amend § 397.213(b)(4) by removing the word “our” and adding in its place the word “or”.

Appendix G to Subchapter B of Chapter III [Amended]

128. In the table below, under each heading of Appendix G to Subchapter B indicated in the left column, remove the words indicated in the middle column and add the words indicated in the right column in their place.

Heading | Remove | Add
5. Lighting Devices | Section 393 | part 393
10. Tires a. (9) | 393.75(e) | § 393.75(e)
12. Windshield Glazing | 393.60 | § 393.60
Differences Between the Out-of-Service Criteria & FMCSA's Annual Inspection, 3. Exhaust System | Section 393.83 | § 393.83 | Differences Between the Out-of-Service Criteria & FMCSA's Annual Inspection, 5. Lighting Devices, | Section 393 | part 393
Differences Between the Out-of-Service Criteria & FMCSA's Annual Inspection, 9. Frame | 393.201 | § 393.201
Differences Between the Out-of-Service Criteria & FMCSA's Annual Inspection, 10. Tires | 393.75 | § 393.75
Differences Between the Out-of-Service Criteria & FMCSA's Annual Inspection, 11. Wheel and Rims | 393.205 | § 393.205
Differences Between the Out-of-Service Criteria & FMCSA's Annual Inspection, 12. Windshield Glazing | 393.60 | § 393.60

Issued under authority delegated under 49 CFR 1.87 on: August 30, 2013.
Anne S. Ferro,
Administrator.

[FR Doc. 2013-22484 Filed 9-23-13; 8:45 am]

BILLING CODE 4910-EX-P